DEPARTMENT OF TRANSPORTATION

Surface Transportation Board

[STB Finance Docket No. 35005]

Chicago Terminal Railroad—Acquisition and Operation Exemption—Rail Lines of Union Pacific Railroad Company and Canadian Pacific Rail System at Elk Grove Village, Cook and DuPage Counties, IL

Chicago Terminal Railroad (CTM), a Class III rail carrier, has filed a verified notice of exemption under 49 CFR 1150.41 to acquire by lease and to operate rail lines owned by Union Pacific Railroad Company (UP) and Canadian Pacific Rail System (CP) in the Centex Industrial Park and adjacent Elk Grove Yard in Elk Grove Village in Cook and DuPage Counties, IL. The subject rail lines, owned by UP, or jointly by UP and CP, include approximately 25 miles of rail lines in the Centex Industrial Park and approximately 11,500 feet of rail line in the adjacent Elk Grove Yard, originating at the west end of UP's approximate 800-foot Elk Grove Lead track extending from its Milwaukee Subdivision at milepost 7.8.

CTM certifies that its projected annual revenues as a result of this transaction will not result in the creation of a Class II or Class I rail carrier, and further certifies that its projected annual revenues will not exceed $5 million.

The transaction is scheduled to be consummated on April 15, 2007.

If the notice contains false or misleading information, the exemption is void ab initio. Petitions to revoke the exemption under 49 U.S.C. 10502(d) may be filed at any time. The filing of a petition to revoke will not automatically stay the transaction.

An original and 10 copies of all pleadings, referring to STB Finance Docket No. 35005, must be filed with the Surface Transportation Board, 395 E Street, SW., Washington, DC 20423-0001. In addition, one copy of each pleading must be served on Fritz R. Kahn, Fritz R. Kahn, PC, 1920 N Street, NW., Eighth Floor, Washington, DC 20036-1601.¹

¹ By letter filed March 21, 2007, CTM's original counsel submitted a notice of withdrawal of counsel. By facsimile received on March 28, 2007, Fritz R. Kahn entered his appearance as counsel for CTM.

Board decisions and notices are available on our Web site at http://www.stb.dot.gov.

Decided: March 28, 2007.
By the Board, David M. Konschnik, Director, Office of Proceedings.
Vernon A. Williams,
Secretary.

[FR Doc. E7-6122 Filed 4-2-07; 8:45 am]

BILLING CODE 4915-01-P